DEPARTMENT OF HEALTH AND HUMAN SERVICES

Centers for Disease Control and Prevention

Statement of Organizations, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 65 FR 58775, dated October 2, 2000) is amended to (1) restructure the functions and activities of the Office of Program Support; (2) retitle the Office of Program Support as the Office of Program Services; (3) establish the Financial Management Office with a direct organizational reporting relationship to the Office of the Director, CDC; (4) establish the Office of Management and Operations; and (5) revise the Order of Succession for the Centers for Disease Control and Prevention.

The Office of Program Support, retitled as the Office of Program Services, is being restructured to focus its mission on the program service components and functions of the Information Resources Management Office, the Management Analysis and Services Office, and the Procurement and Grants Office. The Office of Management and Operations is being established to provide centralized services for human resource management, facilities-related functions, and special initiatives. As a result, the following organizational changes will occur:

I. Establish the Office of Management and Operations (CAD).

II. Delete the following components and functions from the Office of Program Support (CA5) and transfer them, in their entirety, to the Office of Management and Operations (CAD): Physical Security Activity (CA5A2), Real Property and Space Management Activity (CA5A3), Facilities Engineering Office (CA52), Design and Construction Management Office (CA55), Facilities Planning and Project Management Office (CA56), and Human Resources Management Office (CA57).

III. Delete the Financial Management Office (CA53) as a component of the Office of Program Support (CA5) and establish it as a Staff Office with a direct reporting relationship to the Office of the Director, CDC (CA).

IV. Retitle the Office of Program Support (CA5) as the Office of Program Services (CA5).

Section C-B, Organization and Functions, is hereby amended as follows:

Delete the title and functional statement for the Office of Program Support (CA5) and insert the following:

Office of Program Services (CA5). (1) Assists and advises in the development, coordination, direction, and assessment of program services and related management activities throughout the Centers for Disease Control and Prevention, and assures consideration of the implications of such in program decisions; (2) conducts CDC's activities in the area of management analysis, studies, and services; information technologies and systems; grants management, procurement and materiel management; publications management; library and legislative reference services; and other delegated authorities as may be assigned; (3) manages the planning, evaluation, and adoption of innovations and technologies in these areas; (4) directly and/or through the individual staff offices of the Centers for Disease Control and Prevention, provides leadership, guidance, and evaluation of administrative management services performed for or by Centers, Offices, and other components of the CDC; (5) maintains liaison with officials of the Department of Health and Human Services on management matters; and (6) participates in the development of CDC's goals and objectives.

Delete the functional statement for the Office of the Director (CA5A) and insert the following:

(1) Manages, directs, and coordinates the activities of the Office of Program Services (OPS); (2) provides the CDC Deputy Director for Program Management and other key officials leadership, guidance, and evaluation of program service and information technology management services performed for or by Centers/Institute/Offices; (3) maintains liaison with officials of HHS on program service and information management matters; and (4) participates in the development of CDC's goals and objectives.

After the functional statement for the Office of the Director (CAB1), Office of Global Health (CAB), insert the following:

Financial Management Office (CAC). (1) Provides leadership and coordination in the development and administration of CDC's financial management policies; (2) develops budget submissions for CDC; (3) collaborates with CDC's Office of Program Planning and Evaluation in the development and implementation of long-range program and financing plans; (4) participates in budget reviews and hearings; (5) manages CDC's system of internal budgetary planning and control of funds; (6) develops and implements CDC-wide budgetary, accounting, and fiscal systems and procedures; (7) conducts CDC-wide manpower management (including productivity measurement) activities; provides accounting and auditing services; (8) prepares financial reports; (10) serves as the focal point for domestic and international travel policy, procedures and interpretation; (11) provides legislation reference services; (12) plans, directs, and conducts internal quality assurance reviews; (13) analyzes data and makes recommendations to assure effective safeguards are in place to prevent fraud, waste and abuse; (14) assists in identifying or conducting special financial management training programs; and (15) maintains liaison with the Office of the Secretary, Department of Health and Human Services, and other Government organizations on financial management matters.

Office of the Director (CAC1). (1) Provides leadership and guidance in all areas of financial management; (2) serves as a CDC witness in budget hearings before Committees of Congress, Office of Management and Budget, and Department of Health and Human Services; (3) participates with top management in program planning and policy determinations, evaluations conferences, and decisions concerning financial resources; (4) provides a centralized source for current information on financial management legal and regulatory requirements governing the prevention and control of diseases; (5) advises the CDC Deputy Director for Program Management concerning reprogramming of funds; and (6) provides consultation and assistance in financial management to State and local health departments when requested by CDC officials.

Financial Policy and Internal Quality Assurance Activity (CAC12). (1) Provides leadership, consultation, guidance and advice on financial policy and internal quality assurance matters for CDC; (2) develops, analyzes, and evaluates financial management policies, guidelines, and services which have CDC-wide impact; (3) works with personnel from all disciplines within CDC to identify the areas in which financial policy needs to be strengthened; (4) reviews, assesses, and recommends financial policy that is consistent with internal controls and the hierarchy of Federal and Department of Health and Human Services policies and procedures; (5) ensures that resources are safeguarded against fraud, waste, and abuse; managed economically and efficiently; and desired results are achieved; (6) reviews and independently assesses the soundness, adequacy, and application of budgetary and accounting controls; (7) reviews the reliability and integrity of financial and budget information and the means used to identify, measure, classify, and report such information; (8) reviews the adequacy and effectiveness of systems and procedures having an impact on expenditures of funds and use of resources; (9) assesses the reliability and accuracy of accounting and budgetary data and reports developed within CDC; and (10) identifies problems and weaknesses in internal controls and provides reliable information for management to base corrective action.

Accounting Branch (CAC2). (1) Develops accounting policies and procedures for CDC; (2) provides financial information for management purposes, effective control and accountability of all funds, and suitable integration of CDC accounting with the accounting operations of the U.S. Treasury; (3) coordinates activities of the Accounting Branch with the FMO Director, the FMO Budget Branch and the FMO Financial Systems Branch; (4) coordinates accounting policy issues with the HHS Office of Financial Policy; (5) reviews and develops accounting systems to comply with requirements of HHS and the General Accounting Office and maintains an integrated system of accounts to meet the budgetary and accounting requirements of CDC; (6) reviews and implements the legal, accounting and reporting requirements of the Chief Financial Officers' Act, the Federal Managers' Financial Integrity Act, the Principles of Appropriation Law and other regulatory requirements; (7) compiles all accounting information for the 5-Year Financial Management Plan which provides CDC's financial management vision and objectives for the ensuring 5 year period; and (8) develops strategies for employee training and professional development.

Accounts Payable Section (CAC22). (1) Develops and implements policies and procedures for all accounts payable activities at CDC; (2) develops new financial systems to automate accounts payable operations and maintains and serves as the CDC focal point on all existing automated payment systems; (3) reviews obligation documents and payment requests from a variety of private sector and government sources to determine the validity and legality of the request; (4) compiles and submits a variety of cash management and travel reports required by the Department of the Treasury and various other outside agencies; (5) acts as liaison with CIO's and outside customers to resolve problems and provide training and advice on payment issues; (6) provides electronic authorization to the Department of the Treasury to issue checks or electronic funds transfers; and (7) analyzes various internal reports to provide management information on topics such as interest expenses, workload, and various other performance indicators.

Payments Unit (CAC223). (1) Approves and processes payments on all payment requests for equipment, supplies and services procured by CDC; (2) approves charges and credits from other Federal sources and ensures posting of the expenses to the correct general ledger accounts; (3) approves and posts to CDC's accounting records all payments made to government, quasi-government, and private vendors to ensure the validity, legality and proper accounting treatment of the charges; (4) reviews authorization documents and processes payments and credits related to the documents, including authorization documents such as negotiated and fixed price contracts, purchase orders, delivery orders, blanket purchase orders, and various types of personnel agreements; (5) acts as CDC liaison on all payment issues related to the implementation of the Government Impact Card Program; (6) determines and computes tax liabilities for individuals serving under the visiting scientists' program to ensure proper tax reporting to the Internal Revenue Service; and (7) provides certification for the Department of the Treasury to reissue returned or canceled payments.

Payment Services Unit (CAC222). (1) Performs quality control reviews of various payment processes and systems in the Accounts Payable Section, including reviews to ensure compliance with the Prompt Payment Act and to validate the legality, propriety and accounting treatment of the payments, reviews of payments authorized using the U.S. Government Impact Card, reviews to validate the receipt or acceptance of the goods or services at CDC, and reviews of the Federal Express payment process; (2) identifies recurring or widespread problems in the payment processes and recommends corrective actions or identifies required training to correct the deficiencies; (3) monitors the use of and makes suggestions to improve existing automated payment and payment information systems; (4) defines user requirements for Electronic Commerce (EC) in the Accounts Payable Section, and recruits additional EC trading partners in private industry; (5) identifies automation opportunities in the Section and, when necessary, coordinates with Financial Systems Branch personnel to identify system requirements and test proposed automated systems.; (6) writes and maintains automated system and process documentation and provides training to other employees on new or existing automated systems; (7) serves as the focal point at CDC for vendor and employee payment questions and resolution of payment problems; (8) validates and prepares daily payment schedules for transmission to the Department of the Treasury; (9) monitors and validates open obligations related to payments; and (10) maintains the automated file containing vendor payment address and banking information.

Travel Unit (CAC224). (1) Serves as the focal point at CDC for all travel and permanent change of station payment issues; (2) provides oversite, guidance and interpretations to the CIO's on all aspects of travel procedures and policies at CDC, including the use of the automated travel system; (3) interprets policies, laws, rules and regulations to analyze the validity, legality, and correct accounting treatment of disbursements for local, domestic and international travel, and for change of station vouchers, for civil service employees, foreign service employees, and commissioned officers; (4) examines and approves a variety of transportation claims and credits, including Government Transportation Requests, Government Bills of Lading, unused tickets, and MARTA tickets; and (5) determines Federal Income Tax liabilities and allowances for relocation claims and ensures the proper accounting treatment of the tax liabilities.

Debt and Property Management Section (CAC24). (1) Compiles and submits the quarterly HHS Debt Management report which reports the status of all unpaid debts due to CDC from the public; (2) compiles and submits the annual Treasury report of debts due to CDC; (3) performs all debt collection activities in accordance with the Debt Collection Act of 1982 and in accordance with requirements provided by HHS; (4) prepares customer billings; (5) collects and records all amounts billed to customers; (6) controls billings and collections processed on the On-line Payment and Collection System (OPAC); (7) reconciles accounts receivable subsidiary records to the CDC general ledger receivable accounts; (8) maintains travel advance records and reconciles subsidiary records to general ledger advance accounts; (9) coordinates CDC's debt collection activities with FMO's Accounts Payable Section and with CDC program administrative offices; (10) Coordinates all debt collection activities with the U.S. Justice Department and with private collection agencies; (11) Prepares and controls daily deposits which are delivered to the Federal Reserve Bank; (12) performs property accounting activities including maintenance of general ledger property accounts and reconciliation with the CDC Personal Property System; (13) Reconciles Tax Withholding Account and prepares all monthly, quarterly and annual tax reports which must be submitted to IRS.

Cincinnati Accounting Section (CAC23). (1) Maintains a system of accounts to meet the budgetary and accounting requirements of the NIOSH accounting point; (2) provides financial information for management purposes, effective control and accountability of all accounting point funds, and integration of NIOSH accounting with the accounting and reporting operations of CDC and the U.S. Treasury; (3) coordinates the NIOSH accounting point accounts payable and receivable activities including auditing of vouchers and the certification of payments; (4) reviews the NIOSH accounting point system for compliance with CDC, HHS and General Accounting Office requirements; and (5) reconciles NIOSH accounting point general ledger accounts including cash, property and receivables.

General Ledger Section (CAC25). (1) Compiles and submits the Report of Budget Execution which reports the obligations incurred against the current year appropriations; (2) compiles and submits the annual financial statements required by the Chief Financial Officers' Act; (3) Compiles and submits the monthly Statement of Transactions report to the U.S. Treasury which reports the CDC cash disbursements by appropriation; (4) reconciles general ledger cash accounts with the U.S. Treasury monthly disbursements and receipts; (5) performs daily maintenance on the general ledger accounts including the asset, liability, capital and budgetary accounts; (6) makes recommendations for improvements to the accounting system and monitors internal controls; (7) analyzes the general ledger accounts, prepares system-wide reconciliations and interprets the effect of transactions on the CDC's financial resources; (8) develops new reports to support budget requirements and to support the needs of CDC management; (9) controls input of all funding transactions; (10) performs daily maintenance of accounting system tables; (11) controls grant awards processed through the Payment Management System (PMS) including submission of grant obligations to PMS, recording of disbursements received from PMS and reconciliation of the general ledger accounts.

Budget Branch (CAC3). (1) Provides leadership, consultation, guidance, and advice on budgetary matters to CDC; (2) prepares consolidated appropriation budget estimates including narrative justifications; (3) conducts studies in budget planning to determine proper relationship between program planning and acquisition of funds; (4) develops criteria to be used in estimating program needs; (5) conducts CDC-wide manpower management (including productivity measurement) activities; (6) develops expenditure information for preparation of quarterly and annual budgets; and (7) designs and prepares reports, tables, and analyses to demonstrate fiscal requirements.

Congressional/Legislative Branch (CAC4). (1) Serves as the primary CDC focal point for planning, organizing, and administering a range of activities for legislative issues related to Congressional appropriation legislation matters; (2) summarizes Congressional and legislative positions on national public health program issues in order to establish impact on CDC budgetary requirements; (3) reviews and analyzes new or amended appropriation legislation or report language concerning public health programs, health related research activities, and scientific research pertinent to CDC's mission and responsibilities and prepares related issues papers; (4) in coordination with CIOs, develops appropriation report language related to budget formulation submissions; (5) develops strategy and background documentation regarding appropriation legislative issues and prepares related materials; (6) develops appropriation legislative background materials for presentation to HHS, Office of Management and Budget (OMB) and Congressional Appropriations Committees; (7) assists the Director, FMO, as the CDC representative at appropriations hearings; (9) responds to inquiries regarding appropriation budget-related policy issues; and (10) develops training strategies on legislative issues for the professional development of staff.

Financial Systems Branch (CAC5). (1) Responsible for the analysis, design, programming, implementation, enhancement and documentation of automated accounting systems and subsystems for FMO; (2) provides consultative services to systems implementers within CDC, the Department and other Federal agencies on a broad range of issues including policy, data integrity, systems integration and interfacing issues as they relate to financial management systems; (3) provides technical support and assistance to various committees, teams and users in the integration with FMO financial systems and the access and interpretation of financial system data; and (4) responsible for hardware and software support for microcomputers and local network(s) within FMO.

Office of Management and Operations (CAD). (1) Provides leadership and direction on the development, operation, and appraisal on all aspects of human resource programs and policies; (2) designs human resource programs that support and enhance the CDC mission; (3) provides assistance to the CIOs in building the capacity to evaluate the effectiveness of their human resource programs and policies, (4) provides direction for the Agency's ethics program and alternative dispute resolution activities; (5) carries out facilities and real property and space management functions for CDC, including new or expanded facilities, and a major repair and improvement program; and (6) plans, directs, and coordinates a physical security program for CDC facilities and personnel.

Office of the Director (CAD1). (1) Manages, directs, and coordinates the activities of the Office of Management and Operations (OMO); (2) provides leadership, guidance, and evaluation of management operations, human resources management, and facilities operations performed by or on behalf of the Centers/Institute/Offices; (3) advises and assists the Director, CDC, and other key officials on all phases of these functions; (4) maintains liaison with officials of the HHS on management matters; and (5) participates in the development of CDC's goals and objectives.

Physical Security Activity (CAD12). (1) Plans, directs, and coordinates a physical security program for CDC facilities and personnel; (2) maintains and manages a guard service at CDC-owned facilities in metropolitan Atlanta; (3) operates and maintains a computerized control center for surveillance of thermal, smoke, intrusion, and fire alarms for Atlanta area CDC-owned facilities; (4) maintains and monitors a program of controlled access to CDC facilities and grounds in the Atlanta area; (5) develops lock/key plans for CDC facilities in the Atlanta area and issues card keys and door keys in concert with that plan; (6) develops, implements, and maintains a system for preparing and issuing photo identification cards/badges for employees and an identification badging system for visitors; (7) provides information and visitor registration at Atlanta CDC-owned facilities during regular working hours and emergency telephone and notification service at all times; (8) provides guidance, when requested, in developing security programs or solving security problems at other locations; (9) issues Government driver's licenses and parking and carpool decals; (10) coordinates requests for assistance for police, fire, and other emergency responses, as required; (11) coordinates CDC activities related to tort claims; and (12) maintains liaison and coordinates physical security activities of CDC with HHS.

Facilities Planning and Management Officer (CAD2). (1) Operates, maintains, repairs, and modifies CDC's Atlanta area plant facilities and conducts a maintenance and repair program from CDC's program support equipment; (2) carries out facilities planning functions for CDC, including new or expanded facilities, and a major repair and improvement program; (3) develops services for new, improved, and modified equipment to meet program needs; and (4) conducts CDC's real property and space management activities, including the acquisition of leased space, the purchase and disposal of real property, and provides technical assistance in space planning to meet programmatic needs.

Office of the Director (CAD21). (1) Plans, directs and coordinates the functions and activities of the Facilities Planning and Management Officer (FPMO); (2) provides management and administrative direction for budget planning and execution, property management, and personnel management within FPMO; (3) provides leadership and strategic support to senior managers in the determination of CDC's long term facilities needs; (4) directs the operations of FPMO staff involved in the planning, evaluation, design, construction, and management of facilities and acquisition of property; (5) processes data for management and control systems and develops reports and analyses; and (6) assists and advises senior CDC officials in the development, coordination, direction, and assessment of facilities and real property activities throughout CDC's facilities and operations, and assures consideration of facilities management implications in program decisions.

Real Property and Space Management Activity (CAD212). (1) Conducts the Real Property and Space Management Program throughout CDC, including the acquisition of leased space, the purchase sand disposal of real property of CDC (with emphasis on current and long-range planning for the utilization of existing and future real property resources); (2) provides technical assistance in space planning to meet programmatic needs; (3) administers day-to-day management of leased facilities and ensures contact compliance by lessors; (4) provides technical assistance and prepares contract specifications for all repair and improvement projects in leased space; (5) maintains liaison with the General Services Administration Regional Offices; (6) performs all functions relating to leasing and/or acquisition of real property under CDC delegation of authority for leasing special purpose space; and (7) coordinates the relocation of CDC personnel with owned and leased space.

Design and Construction Management Office (CAD22). (1) Develops architectural designs and engineering specifications for construction of new facilities and major modifications and renovations to CDC-owned facilities; (2) provides architectural and engineering technical services and consultation on facility project designs; (3) provides in-house construction administration services for CDC-owned facilities in Atlanta; (4) manages interior design and furniture standards; and (5) coordinates development and determination of best methods and means for the planning and conduct of assigned projects, including selection of resources.

Facilities Engineering Office (CAD23). (1) Operates, maintains, repairs, and modifies CDC's Atlanta area plant facilities and other designated CDC facilities throughout the United States and Puerto Rico and conducts a maintenance and repair program for CDC's program support equipment; (2) develops services for new, improved, and modified equipment to meet program needs; (3) provides technical assistance, reviews maintenance and operation programs, and recommends appropriate action for all Atlanta area facilities and other designated CDC facilities throughout the United States and Puerto Rico; (4) provides recommendations, priorities, and services for new, improved, or modified equipment to meet program needs; (5) provides maintenance and operation of the central energy plant including structures, utilities production and utilities distribution systems and equipment; (6) conducts a program of custodial services, waste disposal, incinerations, and disposal of biological waste and other building services at all CDC Atlanta area facilities and other designated CDC facilities throughout the United States and Puerto Rico; (7) provides landscape development, repair, and maintenance at all CDC Atlanta area facilities and other designated CDC facilities throughout the United states and Puerto Rico; (8) provides hauling and moving services for CDC in the Atlanta area; (9) provides insect and rodent control services for CDC in Atlanta area facilities; (10) develops required contractual services and provides supervision for work performed in these areas; (11) establishes and maintains a computerized system for maintenance services and for stocking and ordering supplies and replacement parts; (12) provides for pick-up and delivery of supplies and replacement parts to work sites; (13) maintains adequate stock levels of supplies and replacement parts; (14) as needed, prepares designs and contract specifications and coordinates completion of contract maintenance projects; (15) manages CDC's Energy Conservation Program for all CDC facilities; (16) reviews all construction documents for energy conservation goals and compliance with applicable CDC construction standards; (17) participates on all core teams and value engineering teams; (18) provides maintenance and inspection for fire extinguishers and fire sprinkler systems; (19) provides services for the procurement of natural gas; (20) develops and maintains a standard equipment list for all CDC facilities; and (21) assists the Design and Construction Management Office and the facilities Planning and Project Management Office with facility-related issues.

Facilities Planning and Project Management Office (CAD24). (1) Provides professional architectural/engineering capabilities and technical and administrative project support to CDC and the CIOs for renovations and improvements to CDC-owned faciliteis and construction of new facilities; (2) priorotizes design and construction needs for requested CIO projects; (3) manages and administers the CDC renovations and improvement (R&I) budget; (4) develops project management requirements (including determination of methods and means of project completion and selection of resources), funding sources, and budgets; and (5) serves as the point of contact with CIOs for administration and coordination of all facilities-related needs, i.e., project planning, evaluation, estimation, and tracking.

Human Resources Management Office (CAD3). (1) Provides service, support, advice, and assistance to CDC organizations, management, and employees in all areas of human resources management; (2) conducts and coordinates personnel management for CDC's civil service and Commissioned Corps personnel; (3) conducts CDC's fellowship programs; (4) develops and issues policies and procedures; conducts recruitment, special emphasis, staffing, position classification, position management, pay administration, performance management systems, employee training and development, and labor relations programs; (5) maintains personnel records and reports, and processes personnel actions and documents; (6) administers the Federal life and health insurance programs; (7) administers the employee recognition, suggestion, and incentive awards programs; (8) furnishes advice and assistance in the processing of Office of Workers' Compensation Program claims; (9) conducts CDC's personnel security and substance abuse programs; (10) develops, maintains, and supports information systems to conduct personnel activities and provide timely information and analyses of CDC personnel and staff to CDC management and employees; (11) maintains liaison with the Department of Health and Human Services and the U.S. Office of Personnel Management (USOPM) in the area of human resources management; and (12) administers the National Performance Review and Human Resources initiatives to meet current and future requirements.

Office of the Director (CAD31). (1) Provides leadership and technical guidance to CDC in planning, coordinating, and conducting an effective personnel program for civil service (including the Senior Biomedical Research Service [SBRS] and the Senior Executive Service [SES]), Title 38, Commissioned Corps, and fellowship program peresonnel; (2) plans, directs, and evaluates the activities of the Human Resources Management Office (HRMO); (3) advises the Director, CDC, and other CDC management staff on all matters relating to human resources management; (4) administers the National Performance Review and Human Resources initiatives; (5) develops, coordinates, and disseminates personnel policies, programs, and procedures in position management, classification, compensation, and staffing; (6) establishes objectives, standards, and internal controls; evaluates, analyzes, and makes recommendations to improve personnel authorities, policies, systems, operations, and procedures; (7) develops and monitors proposals and plans related to the implementation of CDC diversity personnel programs and projects; assists with monitoring progress and the success of existing diversity recruitment and placement programs; and (8) provides all administrative/management support as required in HRMO.

Organizational Development Branch (CAD33). (1) Develops, designs, and implements an accredited comprehensive strategic human resource leadership development and career management program for all occupational series throughout CDC; (2) develops and implements training strategies and activities that contribute to the agency's mission, accomplishments and organizational performance; (3) integrates a variety of learning methods to provide training; (4) provides consultation, guidance, and technical assistance to managers and employees in organizational development, career management, employee development, and training; (5) coordinates the research and acquisition of external training and educational opportunities for CDC employees; (6) conducts the career counselling program; (7) administers special career management programs including the career development program, the long-term training program, cooperative programs, the worker trainee development program, and the mentoring program; (8) conducts comprehensive training needs assessment of CDC employees nationwide; and (9) conducts new employee orientation.

Career Management Section (CAD332). (1) Develops and administers agency intern and professional development programs; (2) provides consultation, guidance, and technical assistance to managers and employees regarding career management and employee development; (3) implements and provides advice on distance-learning programs nationwide; (4) acquires, develops, and supports technology-based training; (5) manages the Learning Resource Center including establishing policy, scheduling room usage, providing technical and audio visual support, and maintaining a Learning Library with individualized learning options; (6) creates marketing tools for the Organizational Development Branch; (7) implements and monitors the CDC Training Management System for compliance with the Government Employees Training Act; (8) maintains employee training records; (9) collaborates with the CDC Corporate University Section to develop, implement, and administer the human resources leadership development and career management program for all occupational series throughout CDC; (10) manages formal career development and mentoring programs; (11) procures and/or instructs training courses as part of existing functional area curriculum; (12) establishes partnerships with professional organizations and academic institutions for the formalization and recognition of CDC programs and the offering of academic programs onsite and through distance learning; and (13) manages the use of technology to offer desktop instruction through web-based training, e.g., interactive CD-ROM.

CDC Corporate University Section (CAD333). (1) Develops, designs, and implements a comprehensive strategic human resources leadership development and career management program for all occupational series throughout CDC; (2) develops formal organizational and individual needs assessment tools to identify core competency requirements for each occupational series throughout the agency; (3) designs curricula that address specified competencies to inculcate continuous learning; (4) develops program plans and evaluates progress toward program goals and objectives; (5) conducts performance measurement, organizational climate surveys, and survey/focus group assessments; (6) develops internal instructor capacity; (7) provides analysis and data to correlate individual training with corporate strategic plans; (8) maximizes economies of scale through systematic planning and evaluation of agency-wide training initiatives; (9) develops new methodology to determine return on investment on human capital and intellectual investments; (10) designs executive leadership programs in collaboration with CDC C/I/Os; (11) develops agency-wide intern programs for succession planning of staffing requirements; and (12) develops and maintains continuing education unit accreditation for school curricula.

Field Operations Branch (CAD34). (1) Plans, develops, directs, coordinates, implements, and evaluates human resources management programs, policies, procedures, and systems; (2) participates in the development of CDC HRMO policy, strategic, long- and short-range plans, programs, and resource allocations; (3) serves as the primary contact for HRMO remote/field operations providing a full range of personnel management, advisory consulting, and information services; (4) provides leadership, technical direction, and guidance in human resource utilization, program development and evaluation; organizational development, position management, classification and pay administration; employment, recruitment, and staffing; employee/labor/partnership relations; benefits and services; performance management, awards, training and employee development; transactions, personnel records, and file management; (5) coordinates HRMO remote/field operations with Headquarter's staff and other CDC, HHS, Federal, State, local, and private organizations; (6) develops annual staffing and recruitment plans, special recruitment campaigns, crediting plans, announcements, advertisements, and special information materials; (7) conducts position management studies, desk audits, qualifications analyses, peer review panels, training assessments, and reductions-in-force; (8) determines title, series, and grade of positions; qualifications, rating, and ranking of applicants; and (9) executes performance, awards, training, labor relations, merit promotion, delegated examining, summer student, fellowship and special emphasis plans; appointing and classification authority; keys, journalizes and files transactions.

Work Force Relations and Partnership Branch (CAD32). (1) Plans, develops, and provides consultation, guidance, and technical advice on available employee services and assistance; performance, award, and conduct issues; leave administration; on-the-job injuries and exposures to infectious diseases; debt complaints; and other job-related issues; (2) develops and administers labor-management and employee relations program including disciplinary actions, grievances and appeals, labor negotiations, collective bargaining, management representation before third parties, and partnership activities; (3) serves as liaison with the Office of Health and Safety and other CDC staff for personnel matters relating to substance abuse and other employee assistance programs; (4) coordinates the Fare Share and Dependent Care programs; (5) coordinates all Family Friendly programs; (6) administers the incentive and suggestion awards programs; (7) coordinates and processes garnishment, child support, and other collection actions for CDC employees; (8) serves as the primary agency contact on all matters associated with labor-management relations; (9) plans, directs, coordinates, and conducts contract negotiations on behalf of agency management with labor organizations holding exclusive recognition; (10) represents management in third party proceedings involving labor and employee relations issues; (11) serves as the authority to ensure validity, consistency, and legality of employee relations matters concerning grievances (both negotiated and agency procedures), disciplinary actions, adverse actions, and resultant third party hearings; (12) plans and coordinates all programmatic activities to include preparation of disciplinary and adverse action letters and all final agency decisions in grievances and appeals; (13) provides technical advice, consultation, and training on matters of employee conduct and performance and provides personnel services on debt complaints; (14) serves as the authority and primary agency on all matters associated with labor-management partnership activities; (15) provides consultation, guidance, and technical advice to personnel generalists, managers, and employees on all family programs; (16) develops, implements, and coordinates CDC Quality of Work Life initiatives; (17) provides personnel services relating to on-the-job injuries and exposures to infectious diseases; and (18) develops, implements, and coordinates performance management systems for civil service employees other than SES and SBRS.

Operations Branch (CAD35). (1) Serves as the primary contact for CDC management and employees in obtaining the full range of personnel assistance and management services for civil service and Commissioned Corps personnel; (2) provides leadership, technical assistance, guidance, and consultation in human resource utilization, position management, position classification, staffing, employee relations, reorganization, program evaluation, performance management, and personnel records and files management; (3) works as a team with other personnel specialists and CDC organizations to develop staffing plans, identify recruitment needs, and conduct position management studies, desk audits, and job analyses; (4) plans, develops, implements, and evaluates systems to ensure consistently high quality personnel services; (5) processes personnel actions by determining position classifications, issuing vacancy announcements, assisting in development of selection criteria, conducting examining under delegated examining authority, conducting candidate rating and ranking under CDC Merit Promotion Plan, making qualification determinations, determining pay, conducting reductions-in-force, and effecting appointments and other actions; (6) coordinates with other Federal agencies for the assignment of CDC personnel in other countries; (7) establishes and maintains personnel and payroll records, files, and controls; and (8) provides assistance in the implementation of HHS Plan for Drug Free Workplace.

Commissioned Corps Section (CAD352). (1) Provides technical assistance and information on rights, benefits, and obligations of the Commissioned Corps service to Commissioned Corps personnel and CDC management; (2) provides assistance and information on Commissioned Corps policies and systems such as pay, performance management, assignments, health benefits, training, travel, relocation, promotions, and retirement; (3) provides staffing assistance for CDC's Commissioned Corps promotion and awards programs; and (4) maintains liaison and coordinates personnel services for Commissioned Corps personnel with the Division of Commissioned Personnel.

Central Staffing Section (CAD536). (1) Implements a centralized staffing and placement program; (2) administers the delegated examining authority, the direct hiring authority, and the temporary limited appointment authority granted by USOPM; (3) oversees the overall staffing process and insures quality control; (4) reviews, evaluates, and makes recommendations on the application and implementation of the USOPM delegated authorities and merit promotion program rules and regulations; (5) provides guidance and consultation in job analyses and in development of knowledge/skills/abilities (KSAs) crediting plans; and (6) manages various staffing programs such as the CDC summer program, the Voluntary Employee Referral Program, the Interagency Career Transition Assistance Program, and the Career Transition Assistance Program.

Technical Services Section (CAD357). (1) Provides central personnel services and assistance in the areas of employee benefits, personnel action processing, data quality control/assessment, and files/records management; (2) services as liaison between CDC and the HHS payroll office resolving discrepancies with pay and leave; (3) administers the leave donor program and processes time and attendance amendments; (4) provides policy guidance and technical advice and assistance on retirement, the Thrift Savings Plan, health/life insurance, and savings bonds; (5) codes and finalizes all personnel actions in the automated personnel data system; (6) assists with new employee orientation; (7) establishes and maintains the official personnel files system and administers personnel records storage and disposal program; (8) responds to employment verification inquiries; (9) administers the personnel security program; (10) initiates suitability background checks and fingerprints for all CDC personnel; and (11) provides assistance in the implementation of the HHS Plan for a Drug Free Workplace.

Information Technology and Analysis Branch (CAD36). (1) Develops strategic plans for information technology and information systems to support CDC's and HRMO's personnel information requirements; (2) acquires and implements appropriate technology and develops information systems to meet CDC-wide information needs on personnel, staffing, and work force characteristics and trends; (3) provides support to HRMO organizations and users in achieving automation of functions and use of information technology and systems; (4) develops, manages, and supports centralized information technology and systems in support of personnel activities, including the HHS personnel system; (5) researches and develops new sources of personnel information and access methods including computer-based CDC-wide surveys; (6) coordinates HRMO information resource management activities with IRMO and CDC information resource management committees; (7) conducts demographic analysis of the CDC work force and publishes results in management reports; and (8) develops methodologies to assess the impact of revised personnel policies and practices on the work force.

Outreach and Marketing Branch (CAD37). (1) Develops and implements human resource management marketing campaigns; (2) provides leadership in identifying the Centers/Institute/Offices' (CIOs) recruiting needs, and assesses, analyzes, and develops CDC's short- and long-range recruitment plans to meet these needs; (3) provides consultation, guidance, and technical advice on recruitment and special emphasis policies, practices, and procedures, including search committees; (4) strategizes on the best approach to recruitment at specific events, and designs and develops recruitment materials for events; (5) maintains and manages the Automated Applicant Listing System (AALS/Resumix) for storage and retrieval of applications of those individuals with education and experience appropriate for commonly needed and hard-to-fill positions; coordinates, with CIOs, the referral of appropriate candidates from the applicant pool for position vacancies; (6) provides leadership on recruitment activities through the development of policies and practices for effective communication of HRMO programs, coordinates the development and dissemination of information among HRMO and the CIOs, provides training and technical assistance to CIO staff; (7) manages and operates the CDC Job Information Center, including the automated telephone job line; (8) markets and manages special emphasis programs including the Program for Persons with Disabilities and the Disabled Veterans Affirmative Action Program, the Veterans Readjustment Appointment Program, the Federal Equal Opportunity Recruitment Program, and college relations and student employment programs; and (9) provides leadership in assessing progress in achieving overall staffing, EEO, and Affirmative Action goals.

Delegations of Authority Statement

All delegations and redelegations of authority remain in effect until otherwise modified, superseded, or cancelled.

Section C-C, Order of Succession

Delete in its entirety Section C-C, Order of Succession, and insert the following:

During the absence or disability of the Director, CDC, or in the event of a vacancy in that office, the first official listed below who is available shall act as Director, except that during a planned period of absence, the Director may specify a different order of succession:

1. Deputy Director for Science and Public Health;

2. Deputy Director for Policy and Legislation;

3. Deputy Director for Program Management.

Dated: October 30, 2000.
Jeffrey P. Koplan,
Director.

[FR Doc. 00-29023 Filed 11-13-00; 8:45 am]

BILLING CODE 4160-18-M